DEPARTMENT OF AGRICULTURE

Animal and Plant Health Inspection Service

9 CFR Part 77

[Docket No. 04-068-3]

Tuberculosis in Cattle and Bison; State and Zone Designations; New Mexico

AGENCY: Animal and Plant Health Inspection Service, USDA.

ACTION: Affirmation of interim rule as final rule.

SUMMARY: We are adopting as a final rule, without change, an interim rule that amended the bovine tuberculosis regulations regarding State and zone classifications by removing New Mexico from the list of modified accredited advanced States, adding portions of two counties in New Mexico to the list of modified accredited advanced zones, and adding the remainder of the State to the list of accredited-free zones. We took this action based on our determination that New Mexico met the requirements of the regulations for zone recognition and that one of the zones met the criteria for designation as accredited-free.

EFFECTIVE DATE: The interim rule became effective on July 22, 2005.

FOR FURTHER INFORMATION CONTACT: Dr. M.J. Gilsdorf, Director, Ruminant Health Programs, National Center for Animal Health Programs, VS, APHIS, 4700 River Road Unit 43, Riverdale, MD 20737-1231; (301) 734-6954.

SUPPLEMENTARY INFORMATION:

Background

In an interim rule effective and published in the Federal Register on July 22, 2005 (70 FR 42259-42261, Docket No. 04-068-1), we amended the tuberculosis regulations in 9 CFR part 77 by removing New Mexico from the list of modified accredited advanced States in § 77.9(a), adding portions of two counties in New Mexico to the list of modified accredited advanced zones in § 77.9(b), and adding the remainder of the State to the list of accredited-free zones in § 77.7(b).

On August 12, 2005, we published a document in the Federal Register (70 FR 47078, Docket No. 04-068-2), correcting an error in the above-mentioned rule. When we set out the revised § 77.9(a) in the July 2005 interim rule, we inadvertently included California on the list of modified accredited advanced States. California was added to the list of accredited free States in § 77.7(a) in an interim rule published in the Federal Register on April 15, 2005 (70 FR 19877-19878, Docket No. 05-010-1). Our August 2005 document corrected that error by removing California from the list of modified accredited advanced States in § 77.9(a).

Comments on the interim rule were required to be received on or before September 20, 2005. We received one comment by that date. The comment was from a State agricultural agency. The commenter supported the interim rule. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 70 FR 42259-42261 on July 22, 2005, as corrected by the correcting amendment published at 70 FR 47078 on August 12, 2005.

Done in Washington, DC, this 17th day of October 2005.
W. Ron DeHaven,
Administrator, Animal and Plant Health Inspection Service.

[FR Doc. 05-21082 Filed 10-20-05; 8:45 am]

BILLING CODE 3410-34-P